DEPARTMENT OF COMMERCE

National Oceanic and Atmospheric Administration

RIN 0648-XE812

Pacific Island Fisheries; Aquaculture

AGENCY: National Marine Fisheries Service (NMFS), National Oceanic and Atmospheric Administration (NOAA), Commerce.

ACTION: Notice of intent to prepare a Programmatic Environmental Impact Statement; request for comments.

SUMMARY: NMFS, in coordination with the Western Pacific Fishery Management Council (Council), intends to prepare a Programmatic Environmental Impact Statement (PEIS) to analyze the potential environmental impacts of a proposed Pacific Islands Region (PIR) aquaculture management program and alternatives. Publication of this notice begins the official public scoping process to help identify alternatives and determine the scope of environmental issues for consideration in the PEIS. The PEIS is intended to support offshore aquaculture development, including appropriate management unit species (MUS) for aquaculture, reasonably foreseeable types of offshore aquaculture operations, and permitting and reporting requirements for persons conducting aquaculture activities in Federal waters.

DATES: See SUPPLEMENTARY INFORMATION section for meeting dates. NMFS must receive comments by October 31, 2016.

ADDRESSES: You may submit comments on this action, identified by NOAA-NMFS-2016-0111, by any of the following methods:

• Electronic Submission: Submit all electronic public comments via the Federal e-Rulemaking Portal. Go to http://www.regulations.gov/docket?D=NOAA-NMFS-2016-0111, click the “Comment Now!” icon, complete the required fields, and enter or attach your comments.

• Mail: Send written comments to Michael D. Tosatto, Regional Administrator, NMFS Pacific Islands Region (PIR), 1845 Wasp Blvd., Bldg. 176, Honolulu, HI 96818.

• Scoping Meeting: Submit written comments at a scoping meeting held by NMFS for this action.

Instructions: You must submit comments by the above methods to ensure that NMFS receives, documents, and considers your comments. NMFS may not consider comments sent by any other method, to any other address or individual, or received after the end of the comment period. NMFS will consider all comments received as part of the public record and will generally post comments for public viewing on www.regulations.gov without change. All personal identifying information (e.g., name, address) submitted voluntarily by the sender will be publicly accessible. Do not submit confidential business information, or otherwise sensitive or protected information. NMFS will accept anonymous comments (enter “N/A” in the required fields if you wish to remain anonymous).

FOR FURTHER INFORMATION CONTACT: David Nichols, NMFS, Pacific Islands Regional Office, (808) 725-5180.

SUPPLEMENTARY INFORMATION: NMFS and the Council manage fisheries in U.S. Federal waters in the Pacific Islands through five fishery ecosystem plans (FEPs). The Council recommended amending the five FEPs to establish a management program for aquaculture fisheries under the Magnuson-Stevens Fishery Conservation and Management Act (Magnuson-Stevens Act). NMFS is working with the Council to develop a management program that would regulate and promote environmentally sound and economically sustainable aquaculture in Federal waters of the Pacific Islands Region.

In compliance with the National Environmental Policy Act (NEPA) and consistent with Council recommendations, the intent of the PEIS is to evaluate the potential direct, indirect, and cumulative impacts on the human environment of the proposed Federal action that includes alternative management approaches to implementing an aquaculture management program in the PIR. NEPA requires NMFS to consider the potential impacts of the proposed action and reasonable alternatives to inform the selection of a final preferred alternative for the proposed Pacific Islands aquaculture management program.

Under the Magnuson-Stevens Act, NMFS has authority to regulate commercial fisheries in Federal waters, including aquaculture. Landings or possession of fish in the EEZ from the commercial marine aquaculture production of any species managed under an FEP in the PIR constitutes “fishing” as defined in Magnuson-Stevens Act Section 3(16). Fishing includes all activities and operations related to the taking, catching, or harvesting of fish. The U.S. EEZ in the Pacific Islands generally consists of waters from 3 nm to 200 nm around American Samoa, Guam, Hawaii, the Commonwealth of the Northern Mariana Islands (CNMI), Baker Island, Howland Island, Jarvis Island, Johnston Atoll, Kingman Reef, Midway Island, Wake Island, and Palmyra Atoll and includes all islands and reefs appurtenant to such islands, reefs, or atolls.

With the exception of coral reef ecosystem species, there is no requirement for Federal permits to conduct aquaculture for MUS in Federal waters. The existing regulatory process is complex and requires multiple permits from several different Federal agencies, including the U.S. Environmental Protection Agency (EPA), U.S. Army Corps of Engineers (USACE), and NMFS.

The preliminary proposed Federal action will identify areas and species suitable for offshore aquaculture, describe the reasonably foreseeable types of offshore aquaculture operations, and provide an early assessment of the potential social, economic, and environmental impacts of such proposed activities. Completing a PEIS for an aquaculture management program will facilitate the review and processing of aquaculture fishery proposals, supporting NEPA reviews for future projects.

The PEIS will include information that NMFS would use to understand the potential effects of managing aquaculture in compliance with applicable laws, including the Magnuson-Stevens Act, Endangered Species Act (ESA), Marine Mammal Protection Act (MMPA), the Coastal Zone Management Act (CZMA), and other applicable laws. In addition, the PEIS would allow for intergovernmental public review and input as NMFS develops and considers approval of the management program. The development and content of the PEIS must also be consistent with the NOAA Administrative Orders (NAO) 216-6A as amended, and the Council on Environmental Quality (CEQ) regulations at Title 40, Code of Federal Regulations, Sections 1500-1508. NMFS will also prepare economic analyses consistent with the Regulatory Flexibility Act and a regulatory impact review under Executive Order 12866 to consider in its decision-making for the aquaculture management program. Scoping is an early and open process for determining the scope, or range, of issues that NMFS should address in a PEIS and for identifying the significant issues related to the proposed action. NMFS will also use this scoping process to seek information relating to the extent to which greenhouse gas emissions and climate change impacts associated with the proposed action. NMFS is also soliciting information to consider the effects of the proposed project on historic properties, if any such properties are present.

NMFS has developed two preliminary alternatives for consideration during scoping: A “no-action,” or status-quo, aquaculture management alternative, and an alternative that incorporates recommendations from Council meetings since 2008 regarding the development of aquaculture requirements for the five FEPs. The preliminary alternatives shown in Table 1 include a suite of eight possible management actions to consider in the development of a sustainable aquaculture management program for each FEP. NMFS based the preliminary proposed action on Council recommendations and the goals and objectives for responsible development and management of aquaculture in Federal waters. These goals and objectives are in the NOAA Aquaculture Policy Statement (available here: http://www.nmfs.noaa.gov/aquaculture/policy/24_aquaculture_policies.html). Under Preliminary Proposed Alternative 1, the No-Action Alternative, NMFS would not implement a permit process for aquaculture in the PIR. The Council and NMFS may provide guidance to potential aquaculture operators, consistent with Council aquaculture recommendations, NMFS Aquaculture Policy, and other applicable guidance and laws. Under this alternative, NMFS would not have a management program specific to each FEP (Table 1). The draft PEIS must include an evaluation of the No-Action Alternative in accordance with NEPA.

Preliminary Proposed Alternative 2 would establish an aquaculture management program that includes elements from each of the eight actions listed in Table 1. Recent Council input on a Pacific Islands Region aquaculture management plan have resulted in recommendations that aquaculture operations do the following:

1. Follow a Council-established review process;

2. Contain permitting and reporting requirements for aquaculture operations including criteria for a limited entry program; and

3. Include environmental monitoring and inspection requirements in the FEP amendment that are consistent with requirements already in place by the State of Hawaii.

Actions include developing a permit process that allows managers to control participation and developing monitoring and reporting requirements to monitor effort, catch, and environmental impacts as the program develops. Potential aquaculture operators would need to acquire a Federal permit from NMFS (Table 1).

Table 1—Preliminary Proposed Alternatives for Consideration During the Scoping Process on the Development of a Sustainable, Aquaculture Management Program in the PIR EEZ
Action | Alternative 1—status quo/no action | Alternative 2—establish an aquaculture management program for Federal waters
Action 1: Aquaculture Permit Requirements, Eligibility and Transferability | NMFS currently has no aquaculture management program. Fishing with new gear type, including net pens, for coral reef ecosystem MUS may require a Special Coral Reef Ecosystem Fishing Permit (SCREFP) in the EEZ | Alternative 2 would establish eligibility, application requirements, and restrictions for transferable aquaculture permits.
Action 2: Operational Requirements | SCREFP requirements for coral reef ecosystem MUS are developed on case-by-case basis | Alternative 2 would establish operational requirements specific to the aquaculture system.
Action 3: Duration of Permits | Under the status-quo SCREFPs are effective for no longer than one year unless otherwise specified | An aquaculture permit would be effective for either five, 10, or 20 years and may be renewed in multi-year increments.
Action 4: Allowable Marine Aquaculture Systems | Alternative 1 does not specify allowable systems for growing cultured organisms in the PIR EEZ | Alternative 2 would allow only cages and net pens for aquaculture in the PIR EEZ of specific size and construction. Deviations from these systems would require additional analysis.
Action 5: Species Allowed for Aquaculture | Under Alternative 1 only coral reef ecosystem MUS are required to have a permit when using new gear type, including net pen gear. No restrictions exist for other MUS | Alternative 2 would allow aquaculture of only finfish in the PIR EEZ.
Action 6: Aquaculture Siting Requirements and Conditions | Alternative 1 does not restrict or otherwise identify aquaculture locations | Alternative 2 would establish marine aquaculture zones, within which NMFS would permit individual sites. Separate facilities within these zones would be spaced at distances based on facility size and oceanographic, biological and human use considerations.
Action 7: Record-keeping and Reporting Requirements | The NMFS Regional Administrator has authority to specify record-keeping and reporting requirements in a SCREFP | Alternative 2 would establish electronic record-keeping and reporting requirements that address, at a minimum, escapement, entanglements and interactions with protected species, pathogens and disease, brood stock harvest, water quality monitoring, and aquaculture harvest. Applicants must conduct a baseline assessment and monitoring at the site.
Action 8: Framework Procedures | Under Alternative 1, specific framework procedures for modifying aquaculture management measures would not be identified | Under Alternative 2, NMFS would specify framework procedures for modifying management measures for offshore marine aquaculture in the PIR EEZ.

NMFS recognizes that any alternatives considered in the draft PEIS will be based on the combined input from the public, research institutions, fishermen, non-governmental organizations, and affected State and Federal agencies, and Council processes. A principal objective of the scoping process is to identify a range of alternatives that will delineate critical issues and provide a clear basis for distinguishing among those alternatives, and to support the selection of a preferred alternative. NMFS is seeking input during scoping regarding the eight actions in Table 1 that make up the features of an aquaculture management program to assist in developing the reasonable range of alternatives to analyze in the draft PEIS.

In addition, NMFS is seeking input from the public on the issues that NMFS should address in the draft PEIS related to an aquaculture management program and the potential direct, indirect, and cumulative effects of the alternatives on the human environment. After NMFS analyzes a set of management alternatives, the Council may recommend a preferred proposed Federal action alternative. NMFS would then analyze the preferred alternative and a reasonable range of alternatives in a draft PEIS.

Public Involvement

Through this notice, we are notifying the public that NMFS has initiated a NEPA analysis and decision-making process for this proposed action so that interested or affected people may participate and contribute to the development of a final set of alternatives and analysis of environmental effects for NMFS and the Council to consider for an aquaculture management program. Public involvement will provide the information required by NMFS and the Council to identify the necessary scope and range of reasonable management alternatives including the need for additional alternatives that will provide a sound and scientific basis for developing a sustainable and long-term aquaculture management program in the PIR.

NMFS will again ask for additional public comments once NMFS publishes the Draft PEIS, probably in late spring 2017. You may find more information about the NMFS aquaculture program and the progress of the PEIS at http://www.fpir.noaa.gov/SFD/SFD_aq.html.

Meetings

NMFS will hold the following public scoping meetings. All meetings will be from 6 p.m. to 9 p.m.

1. Pago Pago, AS, Thursday, September 8, 2016, NOAA Fisheries Conference Room, Pago Plaza, Suite 208, Pago Pago, AS 96799.

2. Hilo, HI, Tuesday, September 13, 2016, University of Hawaii at Hilo, United Classroom Building (UCB) 111, 200 W. Kawili St., Hilo, HI 96720.

3. Kailua-Kona, HI, Wednesday, September 14, 2016, West Hawaii Civic Center, Community Meeting Hale (Bldg. G), 74-5044 Ane Keohokalole Hwy., Kailua-Kona, HI 96740.

4. Honolulu, HI, Thursday, October 13, 2016, NOAA Fisheries Honolulu Service Center at Pier 38, Honolulu Harbor, 1139 N. Nimitz Hwy., Suite 220, Honolulu, HI 96817.

NMFS is also planning to hold scoping meetings in the CNMI and Guam during October 2016. NMFS will announce the details of these meetings in a separate Federal Register notice.

Dated: August 17, 2016.
Emily H. Menashes,
Acting Director, Office of Sustainable Fisheries, National Marine Fisheries Service.

[FR Doc. 2016-20048 Filed 8-22-16; 8:45 am]

BILLING CODE 3510-22-P